OFFICE OF PERSONNEL MANAGEMENT

5 CFR Part 532

RIN 3206-AN06

Prevailing Rate Systems; Redefinition of the Fort Wayne-Marion, IN, and Detroit, MI, Appropriated Fund Federal Wage System Wage Areas

AGENCY: U.S. Office of Personnel Management.

ACTION: Final rule.

SUMMARY: The U.S. Office of Personnel Management (OPM) is issuing a final rule to redefine the geographic boundaries of the Fort Wayne-Marion, IN, and Detroit, MI, appropriated fund Federal Wage System (FWS) wage areas. The final rule redefines Fulton County, OH, from the Fort Wayne-Marion wage area to the Detroit wage area. This change is based on a consensus recommendation of the Federal Prevailing Rate Advisory Committee (FPRAC) to best match Fulton County to a nearby FWS survey area. In addition, this final rule adds La Crosse County, WI, to the survey area of the Southwestern Wisconsin wage area, which OPM inadvertently omitted in a final rule published in 2013.

DATES: Effective date: This regulation is effective February 2, 2015. Applicability date: This change applies on the first day of the first applicable pay period beginning on or after March 4, 2015.

FOR FURTHER INFORMATION CONTACT: Madeline Gonzalez, by telephone at (202) 606-2838 or by email at pay-leave-policy@opm.gov.

SUPPLEMENTARY INFORMATION: On July 18, 2014, OPM issued a proposed rule (79 FR 41927) to redefine Fulton County, OH, from the Fort Wayne-Marion, IN, wage area to the Detroit, MI, wage area. The Federal Prevailing Rate Advisory Committee, the national labor-management committee responsible for advising OPM on matters concerning the pay of FWS employees, reviewed and recommended this change by consensus. The proposed rule had a 30-day comment period, during which OPM received no comments.

This final rule adds La Crosse County, WI, to the survey area of the Southwestern Wisconsin wage area, which OPM inadvertently omitted in a final rule published in 2013 (78 FR 29611). This correction does not affect the pay of any FWS employees.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Katherine Archuleta,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. Appendix C to subpart B is amended by revising the wage area listings for the Fort Wayne-Marion, IN; Detroit, MI; and Southwestern Wisconsin wage areas to read as follows:

* * * * *

INDIANA
* * * * *
Fort Wayne-Marion
Survey Area
Indiana:
Adams
Allen
DeKalb
Grant
Huntington
Wells
Area of Application. Survey area plus:
Indiana:
Blackford
Case
Elkhart
Fulton
Jay
Kosciusko
Lagrange
Marshall
Miami
Noble
St. Joseph
Steuben
Wabash
White
Whitley
Ohio:
Allen
Defiance
Henry
Mercer
Paulding
Putnam
Van Wert
Williams
* * * * *
MICHIGAN
* * * * *
Detroit
Survey Area
Michigan:
Lapeer
Livingston
Macomb
Oakland
St. Clair
Wayne
Area of Application. Survey area plus:
Michigan:
Arenac
Bay
Clare
Clinton
Eaton
Genesee
Gladwin
Gratiot
Huron
Ingham
Isabella
Lenawee
Midland
Monroe
Saginaw
Sanilac
Shiawassee
Tuscola
Washtenaw
Ohio:
Fulton
Lucas
Wood
* * * * *
WISCONSIN
* * * * *
Southwestern Wisconsin
Survey Area
Wisconsin:
Chippewa
Eau Claire
La Crosse
Monroe
Trempealeau
Area of Application. Survey area plus:
Minnesota:
Fillmore
Houston
Winona
Wisconsin:
Barron
Buffalo
Clark
Crawford
Dunn
Florence
Forest
Jackson
Juneau
Langlade
Lincoln
Marathon
Marinette
Menominee
Oneida
Pepin
Portage
Price
Richland
Rusk
Shawano
Taylor
Vernon
Vilas
Waupaca
Wood

* * * * *

[FR Doc. 2015-01938 Filed 1-30-15; 8:45 am]

BILLING CODE 6325-39-P